DEPARTMENT OF LABOR

Employment and Training Administration

[TA-W-40,899, TA-W-40,899A, and TA-W-40,899B]

E.J. Footwear LLC, Blairsville, GA; E.J. Footwear LLC, Franklin, TN; E.J. Footwear LLC, Vestal, NY; Amended Certification Regarding Eligibility To Apply for Worker Adjustment Assistance

In accordance with section 223 of the Trade Act of 1974 (19 USC 2273) the Department of Labor issued a Certification of Eligibility to Apply for Worker Adjustment Assistance on April 3, 2002, applicable to workers of E.J. Footwear LLC, Blairsville, Georgia. The notice was published in the Federal Register on April 17, 2002 (67 FR 18923).

At the request of the company, the Department reviewed the certification for workers of the subject firm. The workers are engaged in the production of work and occupational footwear.

The company reports that worker separations occurred at the Franklin, Tennessee and Vestal, New York facilities of the subject firm. These locations provide advertising, engineering and administrative support function services directly for the Blairsville, Georgia production facility.

Based on these findings, the Department is amending the certification to include workers of E.J. Footwear LLC, Franklin, Tennessee and Vestal, New York.

The intent of the Department's certification is to include all workers of E.J. Footwear LLC who were adversely affected by increased imports.

The amended notice applicable to TA-W-40,899 is hereby issued as follows:

All workers of E.J. Footwear LLC, Blairsville, Georgia (TA-W-40,899), E.J. Footwear LLC, Franklin, Tennessee (TA-W-40,899A) and E.J. Footwear LLC, Vestal, New York (TA-W-40,899B) who became totally or partially separated from employment on or after October 24, 2000, through April 3, 2004, are eligible to apply for adjustment assistance under section 223 of the Trade Act of 1974.

Signed at Washington, DC, this 15th day of July, 2002.
Linda G. Poole,
Certifying Officer, Division, of Trade Adjustment Assistance.

[FR Doc. 02-18640 Filed 7-23-02; 8:45 am]

BILLING CODE 4510-30-P